DEPARTMENT OF ENERGY

Federal Energy Regulatory Commission

[Docket No. CP03-46-000]

Dominion Transmission, Inc., Texas Eastern Transmission, LP; Notice of Intent To Prepare an Environmental Assessment for the Proposed Oakford HP Project and Request for Comments on Environmental Issues

March 11, 2003.

The staff of the Federal Energy Regulatory Commission (FERC or Commission) will prepare an Environmental Assessment (EA) that will discuss the environmental impacts of the Oakford HP Project involving the upgrade of horsepower at the Oakford and South Oakford Compressor Stations by Dominion Transmission, Inc. (DTI) and Texas Eastern Transmission, LP (Texas Eastern) in Westmoreland County, Pennsylvania.¹ The project involves increasing the horsepower on two electrical motor-driven compressor units at the South Oakford Station and increasing the horsepower on three eletrical motor-driven compressor units at the Oakford Station in Westmoreland County, Pennsylvania. This EA will be used by the Commission in its decision-making process to determine whether the project is in the public convenience and necessity.

¹ DTI and Teaxs Eastern's application was filed with the Commission under Section 7 of the Natural Gas Act and part 157 of the Commission's regulations.

Summary of the Proposed Project

In Docket No. CP03-46-000, DTI and Texas Eastern request authorization to increase the horsepower on two existing electrical motor-driven compressor units at the South Oakford Station and three eletrical motor-driven compressor units at the Oakford Station in order to provide greater operating flexibility. This increase in horsepower would allow the stations to increase the daily withdrawl rate as needed. DTI and Texas Eastern proposes to:

• increase the horsepower of engines #3 and #4 from 5,000 to 5,750 at the South Oakford Compressor Station

• increase the horsepower of engines #13, #14, and #15 from 4,000 to 4,600 at the Oakford Compressor Station.

DTI and Texas Eastern would modify the software controls so that each of the engines may be operated at the design rating as described above. This operation would not require any installation, construction, or facility reconfiguration beyond the modifications of the software controls. Therefore, there would be no issues involving land use, vegetation and wildlife, water use and quality, cultural resources, socioeconomics, geological resources, and soils. There would be no issues regarding air emissions because these compressor units are powered by electrical motors. However, based on a comment letter, preliminary review of the proposed modifications and the environmental information provided by DTI and Texas Eastern, existing and proposed noise levels attributed to the South Oakford Compressor Station may warrant additional public comment.

The EA Process

The National Environmental Policy Act (NEPA) requires the Commission to take into account the environmental impacts that could result from an action whenever it considers the issuance of a Certificate of Public Convenience and Necessity. NEPA also requires us ² to discover and address concerns the public may have about proposals. This process is referred to as “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

² ”We”, “us”, and “our” refer to the environmental staff of the Office of Energy Projects (OEP).

Our independent analysis of the issues will be presented in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Jr., Secretary, Federal Energy Regulatory Commission, 888 First St., NE., Room 1A, Washington, DC 20426.

• Label one copy of the comments for the attention of the Gas 1, PJ-11.1.

• Reference Docket No. CP03-46-000

• Mail your comments so that they will be received in Washington, DC on or before April 14, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 1).³ Only intervenors have the right to seek rehearing of the Commission's decision.

³ Interventions may also be filed electronically via the Internet in lieu of paper. See the previous discussion on filing comments electronically. The appendices referenced in this notice are not being printed in the Federal Register. Copies are available on the Commission's Web site at the “FERRIS” link or from the Commission's Public Reference and Files Maintenance Branch, 888 First Street, NE., Washington, DC 20426, or call (202) 502-8371. For instructions on connecting to FERRIS, refer to the section of this notice titled Additional Information. Copies of the appendices were sent to all those receiving this notice in the mail.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potentially affected landowners.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance, contact FERC Online Support at FERCOnlineSupport@ferc.gov or toll-free at (866) 208-3676, or for TTY, contact (202) 502-8659. The FERRIS link on the FERC Internet Web site also provides access to the texts of formal documents issued by the Commission, such as orders, notices, and rulemakings.

Magalie R. Salas,
Secretary.

[FR Doc. 03-6011 Filed 3-14-03; 8:45 am]

BILLING CODE 6717-01-P